DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of one foreign individual and two foreign entities whose property and interests in property have been blocked pursuant to the Foreign Narcotics Kingpin Designation Act (“Kingpin Act”) (21 U.S.C. 1901-1908, 8 U.S.C. 1182). In addition, OFAC is publishing the name of three U.S. entities that have been identified as blocked property pursuant to the Kingpin Act.

DATES: The designation by the Director of OFAC of one foreign individual and two foreign entities and the identification of three U.S. entities as blocked property listed in this notice pursuant to section 805(b) of the Kingpin Act is effective on February 5, 2013.

FOR FURTHER INFORMATION CONTACT: Assistant Director, Compliance Outreach & Implementation, Office of Foreign Assets Control Department of the Treasury Washington, DC 20220, tel.: 202/622-2490.

SUPPLEMENTARY INFORMATION:

Electronic and Facsimile Availability

This document and additional information concerning OFAC are available on OFAC's Web site (http://www.treasury.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 5, 2013, the Director of OFAC designated one foreign individual and two foreign entities whose property and interests in property are blocked pursuant to section 805(b) of the Foreign Narcotics Kingpin Designation Act. In addition, the Director of OFAC also identified three U.S. entities as blocked property pursuant to section 805(b) of the Foreign Narcotics Kingpin Designation Act.

Individual:

1. GARCIA AYALA, Filemon, C Constitucion # 32, Col Rio Grande, Rio Grande, Zacatecas 98400, Mexico; Matamoros, Tamaulipas, Mexico; Rio Grande, Zacatecas, Mexico; DOB 28 Oct 1948; alt. DOB 26 Oct 1948; alt. DOB 27 Oct 1948; POB Loreto, Zacatecas, Mexico; Passport 160010455 (Mexico) issued 03 May 2002 expires 03 May 2012; C.U.R.P. GAAF481027HZSRYL07 (Mexico); alt. C.U.R.P. GAAF481026HTSRYL08 (Mexico) (individual) [SDNTK].

Entities:

2. INTERNACIONAL & NACIONAL EXCHANGE SERVICES, INC., Pharr, TX; Business Registration Document # 801199276 (Texas); Tax ID No. 32040757414 [SDNTK].

3. PRODIRA CASA DE CAMBIO, ACTIVIDAD AUXILIAR DEL CREDITO S.A. DE C.V., Blvd. La Florida 3-A, Colonia La Florida, Guadalupe, Zacatecas 98618, Mexico; RFC PCC031010989 (Mexico) issued 18 Dec 2003 [SDNTK].

4. PRODIRA S.A.DE C.V., CASA DE CAMBIO, ACTIVIDAD DEL CREDITO (a.k.a. PRODIRA CASA DE CAMBIO INCORPORATED), Pharr, TX; Business Registration Document # 801041970 (Texas); Tax ID No. 32038179357 [SDNTK].

5. PRODIRA, INC., Aurora, CO; Phoenix, AZ; Des Moines, IA; Pharr, TX; Business Registration Document # F-853615-0 (Arizona); alt. Business Registration Document # 20011210699 (Colorado); alt. Business Registration Document # 335187 (Iowa); alt. Business Registration Document # 148693800 (Texas); Tax ID No. 17428803666 [SDNTK].

6. TRASTREVA S.A. DE C.V., Av. La Florida 3, La Florida, Guadalupe, Zacatecas 98610, Mexico; Cedula No. DLC/P/152/2011 (Mexico); R.F.C. TRA0010109E4 (Mexico) [SDNTK].

Dated: February 5, 2013.
Adam J. Szubin,
Director, Office of Foreign Assets Control.

[FR Doc. 2013-03172 Filed 2-11-13; 8:45 am]

BILLING CODE 4811-AL-P